DEPARTMENT OF COMMERCE

International Trade Administration

[C-570-167, C-533-927, C-580-920, C-583-877]

Certain Epoxy Resins From the People's Republic of China, India, the Republic of Korea, and Taiwan: Postponement of Preliminary Determinations in the Countervailing Duty Investigations

AGENCY: Enforcement and Compliance, International Trade Administration, Department of Commerce.

DATES: Applicable May 28, 2024.

FOR FURTHER INFORMATION CONTACT: Nathan James (the People's Republic of China (China)), Eliza DeLong (India), Thomas Martin (the Republic of Korea (Korea)), and Whitley Herndon (Taiwan), AD/CVD Operations, Offices V, IV, and IX, Enforcement and Compliance, International Trade Administration, U.S. Department of Commerce, 1401 Constitution Avenue NW, Washington, DC 20230; telephone: (202) 482-5305, (202) 482-3878, (202) 482-3936, and (202) 482-6274, respectively.

SUPPLEMENTARY INFORMATION:

Background

On April, 23, 2024, the U.S. Department of Commerce (Commerce) initiated countervailing duty (CVD) investigations of imports of certain epoxy resins from China, India, Korea, and Taiwan.¹ Currently, the preliminary determinations in these investigations are due no later than June 27, 2024.

¹ See Certain Epoxy Resins from the People's Republic of China, India, the Republic of Korea, and Taiwan: Initiation of Countervailing Duty Investigations, 89 FR 33319 (April 29, 2024).

Postponement of Preliminary Determinations

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 14, 2024, the U.S. Epoxy Resin Producers Ad Hoc Coalition, the petitioner in these investigations, timely requested that Commerce postpone the preliminary determinations in these investigations.² The petitioner requested postponement of the preliminary determinations in these investigations so that it can review the initial questionnaire responses of the mandatory respondents, identify deficiencies that should be addressed for the preliminary determinations, and provide Commerce time to issue supplemental questionnaires, if needed.³

² See Petitioner's Letters, “Certain Epoxy Resins from China: Petitioner's Request For Extension Preliminary Determination Deadline;” “Certain Epoxy Resins from India: Petitioner's Request For Extension Preliminary Determination Deadline;” “Certain Epoxy Resins from South Korea: Petitioner's Request For Extension Preliminary Determination Deadline;” and “Certain Epoxy Resins from Taiwan: Petitioner's Request for Extension Preliminary Determination Deadline,” all dated May 14, 2024.

³ Id.

In accordance with 19 CFR 351.205(e), the petitioner submitted its requests for postponement of the preliminary determinations in these investigations 25 days or more before the scheduled date of the preliminary determinations and has stated the reasons its requests. Commerce finds no compelling reason to deny the requests. Therefore, in accordance with section 703(c)(1)(A) of the Act, Commerce is postponing the deadline for the preliminary determinations in these investigations to no later than 130 days after the date on which these investigations were initiated, i.e., September 3, 2024.⁴

⁴ Postponing the preliminary determinations to 130 days after the date of initiation would place the deadline on Saturday, August 31, 2024. Commerce's practice dictates that, where a deadline falls on a weekend or federal holiday, the appropriate deadline is the next business day (i.e., Tuesday, September 3, 2024). See Notice of Clarification: Application of “Next Business Day” Rule for Administrative Determination Deadlines Pursuant to the Tariff Act of 1930, As Amended, 70 FR 24533 (May 10, 2005).

Pursuant to section 705(a)(1) of the Act and 19 CFR 351.210(b)(1), the deadline for the final determinations of these investigations will continue to be 75 days after the date of the preliminary determinations.

This notice is issued and published pursuant to section 703(c)(2) of the Act and 19 CFR 351.205(f)(1).

Dated: May 20, 2024.
Ryan Majerus,
Deputy Assistant Secretary for Policy and Negotiations, performing the non-exclusive functions and duties of the Assistant Secretary for Enforcement and Compliance.

[FR Doc. 2024-11600 Filed 5-24-24; 8:45 am]

BILLING CODE 3510-DS-P